DEPARTMENT OF AGRICULTURE

Animal and Plant Health Inspection Service

[Docket No. APHIS-2010-0096]

Notice of Decision To Issue Permits for the Importation of Fresh Strawberries From Jordan Into the Continental United States

AGENCY: Animal and Plant Health Inspection Service, USDA.

ACTION: Notice.

SUMMARY: We are advising the public of our decision to begin issuing permits for the importation into the continental United States of fresh strawberries from Jordan. Based on the findings of a pest risk analysis, which we made available to the public for review and comment through a previous notice, we believe that the application of one or more designated phytosanitary measures will be sufficient to mitigate the risks of introducing or disseminating plant pests or noxious weeds via the importation of fresh strawberries from Jordan.

DATES: Effective Date: February 16, 2011.

FOR FURTHER INFORMATION CONTACT: Ms. Donna L. West, Senior Import Specialist, RPM, PHP, PPQ, APHIS, 4700 River Road Unit 133, Riverdale, MD 20737; (301) 734-0627.

SUPPLEMENTARY INFORMATION:

Background

Under the regulations in “Subpart-Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may begin issuing permits for importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on October 12, 2010 (75 FR 62500-62501, Docket No. APHIS-2010-0096), in which we announced the availability, for review and comment, of a PRA that evaluates the risks associated with the importation into the continental United States of fresh strawberries (Fragaria spp.) from Jordan. We solicited comments on the notice for 60 days ending on December 13, 2010. We received one comment by that date, from a State department of agriculture.

¹ To view the notice, the PRA, and the comment we received, go to http://www.regulations.gov/fdmspublic/component/main?main=DocketDetail&d=APHIS-2010-0096.

In the PRA, APHIS determined that six plant pests have a high risk potential of being introduced into the United States via the pathway of strawberries from Jordan. The PRA notes that two of these pests, Eutetranychus orientalis and Thrips major, could potentially avoid detection beneath the calyx of the strawberries due to their small size. The commenter referred to this potential risk and suggested that the national plant protection organization (NPPO) of Jordan be required to notify APHIS in the event of pest detections or changes in pest management practices they recommend to growers and packinghouses.

We acknowledge the risk that these plant pests could potentially evade detection and be introduced into the United States in the manner referred to by the commenter. However, while the pests themselves may potentially evade detection by their small size, their presence can be detected by visible signs of discoloration and damage to fruits and leaves. Moreover, APHIS has permitted the entry of commercial strawberries from several countries in Asia, Europe, and South America where one or both of these pests of concern occur. Over several decades, there have only been a few isolated interceptions of Eutetranychus orientalis and Thrips major in strawberry consignments.

For these reasons, together with Jordan's use of integrated pest management practices in the production of commercial strawberries, APHIS has concluded that commercial strawberries for export from Jordan are unlikely to contain the identified quarantine pests. Accordingly, we have determined that no changes to the PRA are necessary based on the comment.

Therefore, in accordance with the regulations in § 319.56-4(c)(2)(ii), we are announcing our decision to begin issuing permits for the importation into the continental United States of fresh strawberries from Jordan subject to the following phytosanitary measures:

• Each consignment of strawberry fruit must be accompanied by a Phytosanitary Certificate (PC) issued by Jordan's NPPO stating that the strawberries were grown in Jordan and bearing the following additional declaration: “This consignment has been inspected and found free of Cacoecimorpha pronubana, Chrysodeixis chalcites, Eutetranychus orientalis, Monilinia fructigena, Spodoptera littoralis, and Thrips major.”

• The strawberries are imported as commercial consignments only.

• The strawberries are subject to inspection at the port of entry into the continental United States.

Authority: 7 U.S.C. 450, 7701-7772, and 7781-7786; 21 U.S.C. 136 and 136a; 7 CFR 2.22, 2.80, and 371.3.

Done in Washington, DC, this 10th day of January 2011.
Kevin Shea,
Acting Administrator, Animal and Plant Health Inspection Service.

[FR Doc. 2011-3445 Filed 2-15-11; 8:45 am]

BILLING CODE 3410-34-P